DEPARTMENT OF TRANSPORTATION

Federal Aviation Administration

14 CFR Part 71

[Docket No. FAA-2002-14129; Airspace Docket No. 02-ACE-14]

Proposed Establishment of Class E Surface Area Airspace and Modification of Class E Airspace; Jefferson City, MO

Correction

In proposed rule document 03-1133 beginning on page 2462 in the issue of Friday, January 17, 2003 make the following correction:

§71.1 [Corrected]

On page 2463, in the third column, in §71.1, in the first line, “(Lat. 38°38′28′′ N.,”, should read, “(Lat. 38°35′28′′ N.,”.

[FR Doc. C3-1133 Filed 1-24-03; 8:45 am]

BILLING CODE 1505-01-D

DEPARTMENT OF TRANSPORTATION

Federal Aviation Administration

14 CFR Part 71

[Docket No. FAA-2003-14221; Airspace Docket No. 03-ACE-2]

Modification of Class E Airspace; Sikeston, MO

Correction

In rule document 03-1132 beginning on page 2424 in the issue of Friday, January 17, 2003 make the following corrections:

1. On page 2425, in the third column, “List of Subjects in 14 CFR Part 71” should read as set forth here.

§71.1 [Corrected]

2. On the the same page, in the same column, in §71.1, “ACE MO E Sikeston, MO ” should read, “ACE MO E5 Sikeston, MO”.

[FR Doc. C3-1132 Filed 1-24-03; 8:45 am]

BILLING CODE 1505-01-D